DEPARTMENT OF JUSTICE

Notice of Lodging of Proposed Consent Decree Under the Clean Water Act

On January 15, 2025, the Department of Justice lodged a proposed Consent Decree with the United States District Court for the District of Idaho in the lawsuit entitled United States of America v. City of Driggs, Idaho, et. al. Civ. No. 4:22-cv-00444.

The United States filed a complaint under the Clean Water Act (“CWA”) against the City of Driggs, Idaho (“the City”) and State of Idaho seeking injunctive relief and civil penalties for violations of the requirements of the City's National Pollutant Discharge Elimination System (“NPDES”) permit and violations of an administrative order with the Environmental Protection Agency (“EPA”). The proposed Consent Decree would resolve the claims in the complaint, require the City to perform injunctive relief measures to ensure future compliance, and require the City to pay a penalty of $400,0000.

The publication of this notice opens a period for public comment on the proposed Consent Decree. Comments should be addressed to the Assistant Attorney General, Environment and Natural Resources Division, and should refer to United States of America v. City of Driggs, Idaho, et. al. Civ. No. 4:22-cv-00444, D.J. Ref. No. 90-5-1-1-12596. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the consent decree may be examined and downloaded at this Justice Department website: https://www.justice.gov/enrd/consent-decrees. If you require assistance accessing the consent decree, you may request assistance by email or mail to the addresses provided above for submitting comments.

Kathryn C. Macdonald,
Assistant Section Chief, Environmental Enforcement Section, Environment and Natural Resources Division.

[FR Doc. 2025-01480 Filed 1-21-25; 8:45 am]

BILLING CODE 4410-15-P